DEPARTMENT OF COMMERCE

National Oceanic and Atmospheric Administration

[I.D. 090705B]

Pacific Fishery Management Council; Public Meetings/Workshop

AGENCY: National Marine Fisheries Service (NMFS), National Oceanic and Atmospheric Administration (NOAA), Commerce.

ACTION: Notice of public meeting.

SUMMARY: The Groundfish Stock Assessment Review (STAR) Panel for lingcod, the northern portion of the West Coast petrale sole stock, and rebuilding analyses for seven overfished West Coast rockfish stocks will hold a work session which is open to the public.

DATES: The lingcod, petrale sole, and rebuilding analyses STAR Panel will meet beginning at 8 a.m., on Monday, September 26, 2005. The meeting will continue through Friday, September 30, 2005 beginning at 8 a.m. every morning. The meeting will end at 5 p.m. each day, or as necessary to complete business.

ADDRESSES: The lingcod, petrale sole, and rebuilding analyses STAR Panel meeting will be held in Room 1055 at the National Oceanic and Atmospheric Administration (NOAA) Western Regional Center's Sand Point Facility, 7600 Sand Point Way N.E., Seattle, WA 98115-6349; telephone: (206) 526-6547.

Council address: Pacific Fishery Management Council, 7700 NE. Ambassador Place, Suite 200, Portland, OR 97220-1384; telephone: 503-820-2280.

FOR FURTHER INFORMATION CONTACT: Mr. John DeVore, Pacific Fishery Management Council; telephone: 503-820-2280.

SUPPLEMENTARY INFORMATION: The purpose of the STAR Panel meeting is to review draft stock assessments for lingcod and the northern portion of the West Coast petrale sole stock; draft rebuilding analyses for bocaccio, canary rockfish, cowcod, darkblotched rockfish, Pacific ocean perch, widow rockfish, and yelloweye rockfish; any other pertinent information, work with the Stock Assessment Teams and rebuilding analysis authors to make necessary revisions, and produce STAR Panel reports for use by the Council family and other interested persons. No management actions will be decided by this STAR Panel. The STAR Panel's role will be development of recommendations and reports for consideration by the Council at its November meeting in San Diego, CA.

Although non-emergency issues not contained in the meeting agenda may come before the STAR Panel participants for discussion, those issues may not be the subject of formal STAR Panel action during this meeting. STAR Panel action will be restricted to those issues specifically listed in this notice and any issues arising after publication of this notice that require emergency action under section 305(c) of the Magnuson-Stevens Fishery Conservation and Management Act, provided the public has been notified of the STAR Panel participants' intent to take final action to address the emergency.

Special Accommodations

This meeting is physically accessible to people with disabilities. Requests for sign language interpretation or other auxiliary aids should be directed to Ms. Carolyn Porter at 503-820-2280 at least 5 days prior to the meeting date.

Entry to the NOAA Western Regional Center's Sand Point Facility requires visitors to show a valid picture ID and register with security. A visitor's badge, which must be worn while at the NOAA Western Regional Center's Facility, will be issued to non-Federal employees participating in the meeting.

Dated: September 7, 2005.
Emily Menashes,
Acting Director, Office of Sustainable Fisheries, National Marine Fisheries Service.

[FR Doc. E5-4967 Filed 9-9-05; 8:45 am]

BILLING CODE 3510-22-S